DEPARTMENT OF COMMERCE

National Institute of Standards and Technology

Smart Grid Advisory Committee Charter Renewal

AGENCY: National Institute of Standards and Technology, Department of Commerce.

ACTION: Notice of Advisory Committee charter renewal.

SUMMARY: The National Institute of Standards and Technology (NIST) hereby gives notice that the Department of Commerce Acting Chief Financial Officer/Assistant Secretary for Administration, and Deputy Assistant Secretary for Administration has determined that charter renewal of the NIST Smart Grid Advisory Committee (Committee) is necessary and in the public interest. The renewed charter can be found on the Committee website at the following URL link: https://www.nist.gov/file/443231.

FOR FURTHER INFORMATION CONTACT: Mr. Cuong Nguyen, Smart Grid and Cyber-Physical Systems Program Office, National Institute of Standards and Technology, 100 Bureau Drive, Mail Stop 8200, Gaithersburg, MD 20899-8200; telephone 301-975-2254, fax 301-948-5668; or via email at cuong.nguyen@nist.gov.

SUPPLEMENTARY INFORMATION: The Committee was established in accordance with the Federal Advisory Committee Act, as amended, 5 U.S.C. App. The Committee is composed of nine to fifteen members, appointed by the Director of NIST, who were selected on the basis of established records of distinguished service in their professional community and their knowledge of issues affecting Smart Grid deployment and operations. The Committee advises the Director of NIST in carrying out duties authorized by section 1305 of the Energy Independence and Security Act of 2007 (Pub. L. 110-140). The Committee provides input to NIST on Smart Grid standards, priorities, and gaps, on the overall direction, status, and health of the Smart Grid implementation by the Smart Grid industry, and on the direction of research and standards activities. Background information on the Committee is available at http://www.nist.gov/smartgrid/.

The Committee functions solely as an advisory body and in compliance with provisions of the Federal Advisory Committee Act. Pursuant to section 9(c) of the Federal Advisory Committee Act, 5 U.S.C., App., as amended, copies of the Committee's charter were furnished to the Library of Congress and to the following committees of Congress:

• Senate Committee on Appropriations

• Senate Committee on Finance

• Senate Committee on Commerce, Science, and Transportation

• House Committee on Appropriations

• House Committee on Science, Space, and Technology

Kevin A. Kimball,
Chief of Staff.

[FR Doc. 2018-13822 Filed 6-26-18; 8:45 am]

BILLING CODE 3510-13-P